DEPARTMENT OF COMMERCE

National Oceanic and Atmospheric Administration

RIN: 0648-XR03

Pacific Fishery Management Council; Public Meetings

AGENCY: National Marine Fisheries Service (NMFS), National Oceanic and Atmospheric Administration (NOAA), Commerce.

ACTION: Notice of public meetings.

SUMMARY: The Pacific Council and its advisory entities will hold public meetings. September 11-17, 2009 Pacific Council meeting, which includes advisory body meetings during this time period as listed in this notice, as well as a September 8, 2009 Pacific Council Enforcement Consultants Telephone Conference.

DATES: The Pacific Council and its advisory entities will meet September 11-17, 2009. The Council meeting will begin on Saturday, September 12, 2009 at 10:30 a.m., reconvening each day through Thursday, September 17, 2009. All meetings are open to the public, except a closed session will be held from 10:30 a.m. until 11:30 a.m. on Saturday, September 12 to address litigation and personnel matters. The Council will meet as late as necessary each day to complete its scheduled business. In addition to the September 11-17 time frame, the Pacific Council Enforcement Consultants will meet via telephone on Tuesday, September 8, 2009.

ADDRESSES: The Pacific Council Enforcement Consultants September 8 telephone conference will have a listening station for public access at the Pacific Fishery Management Council office, 7700 NE Ambassador Place, Suite 101, Portland, OR 97220. The September 11-17 Pacific Council and advisory body meetings will be held at the Crowne Plaza Hotel, 1221 Chess Drive, Foster City, CA 94404; telephone: (650) 570-5700. The Pacific Council address is Pacific Fishery Management Council, 7700 NE Ambassador Place, Suite 101, Portland, OR 97220.

FOR FURTHER INFORMATION CONTACT: Dr. Donald O. McIsaac, Executive Director, telephone: (866) 806-7204 or (503) 820-2280; or access the Pacific Council website, www.pcouncil.org for the current meeting location, proposed agenda, and meeting briefing materials.

SUPPLEMENTARY INFORMATION: The following items are on the Pacific Council agenda, but not necessarily in this order:

A. Call to Order

1. Opening Remarks

2. Council Member Appointments

3. Roll Call

4. Report of the Executive Director

5. Adopt Agenda

B. Habitat

1. Current Habitat Issues

2. Ocean Acidification and Sea Level Changes

3. Offshore Aquaculture

C. Marine Protected Areas

1. Marine Resources Public Opinion Polls

2. Monterey Bay National Marine Sanctuary Marine Protected Area Process

3. National System of Marine Protected Areas

D. Highly Migratory Species Management

National Marine Fisheries Service (NMFS) Report

E. Groundfish Management

1. NMFS Report

2. Part II of Stock Assessments for 2011-2012 Groundfish Fisheries

3. Off-Year Science Improvements

4. Inseason Adjustments to 2009 and 2010 Groundfish Fisheries - Part I

5. Groundfish Fishery Management Plan (FMP) Amendment 23 - Annual Catch Limits and Accountability Measures

6. Groundfish FMP Amendment 20 - Trawl Rationalization Regulation Language Review and Miscellaneous Implementation Matters

7. Inseason Adjustments to 2009 and 2010 Groundfish Fisheries - Part II

8. Report on Catch of Unidentified Rockfish Species in the Recreational Fishery

F. Enforcement Matters

Oregon State Police Fisheries Enforcement Report

G. Salmon Management

1. Salmon FMP Amendment 16 - Annual Catch Limits and Accountability Measures

2. 2009 Salmon Methodology Review

3. Central Valley Endangered Species Act Biological Opinion and Sacramento River Fall Chinook Salmon Stock Collapse

H. Pacific Halibut Management

1. 2010 Pacific Halibut Fishery Regulations

2. Proposed Procedures for Estimating Pacific Halibut Bycatch in the Groundfish Setline Fisheries

I. Open Comment Period

Comments on Non-Agenda Items

J. Administrative Matters

1. Fiscal Matters

2. Approval of Council Meeting Minutes

3. Membership Appointments and Council Operating Procedures

4. Future Council Meeting Agenda and Workload Planning

SCHEDULE OF ANCILLARY AND ADVISORY BODY MEETINGS
Tuesday, September 8, 2009 |
Enforcement Consultants Telephone Conference | 1 pm
Friday, September 11, 2009 |
Scientific and Statistical Committee | 8 am
Pacific Council Secretariat | 1 pm
Habitat Committee | 1 pm
Budget Committee | 1:30 pm
Saturday, September 12, 2009 |
Pacific Council Secretariat | 7 am
California State Delegation | 7 am
Oregon State Delegation | 7 am
Washington State Delegation | 7 am
Groundfish Advisory Subpanel | 8 am
Groundfish Management Team | 8 am
Scientific and Statistical Committee | 8 am
Habitat Committee | 8:30 am
Enforcement Consultants | 4:30 pm
Sunday, September 13, 2009 |
Pacific Council Secretariat | 9 am
California State Delegation | 9 am
Oregon State Delegation | 9 am
Washington State Delegation | 9 am
Enforcement Consultants | 10 am
Groundfish Advisory Subpanel | 10 am
Groundfish Management Team | 10 am
Scientific and Statistical Committee | 10 am
Monday, September 14, 2009 |
Pacific Council Secretariat | 7 am
California State Delegation | 7 am
Oregon State Delegation | 7 am
Washington State Delegation | 7 am
Enforcement Consultants | 8 am
Groundfish Advisory Subpanel | 8 am
Groundfish Management Team | 8 am
Joint Highly Migratory Species Management Team and Scientific and Statistical Committee | 8 am
Salmon Advisory Subpanel | 8 am
Salmon Technical Team | 8 am
Joint Coastal Pelagic Species Management Team and Scientific and Statistical Committee | 1 pm
Highly Migratory Species Management Team | 1 pm
Tuesday, September 15, 2009 |
Pacific Council Secretariat | 7 am
California State Delegation | 7 am
Oregon State Delegation | 7 am
Washington State Delegation | 7 am
Coastal Pelagic Species Management Team | 8 am
Enforcement Consultants | 8 am
Groundfish Advisory Subpanel | 8 am
Groundfish Management Team | 8 am
Salmon Advisory Subpanel | 8 am
Salmon Management Team | 8 am
Wednesday, September 16, 2009 |
Pacific Council Secretariat | 7 am
California State Delegation | 7 am
Oregon State Delegation | 7 am
Washington State Delegation | 7 am
Enforcement Consultants | 8 am
Groundfish Advisory Subpanel | 8 am
Groundfish Management Team | 8 am
Thursday, September 17, 2009 |
Pacific Council Secretariat | 7 am
California State Delegation | 7 am
Oregon State Delegation | 7 am
Washington State Delegation | 7 am

Although non-emergency issues not contained in this agenda may come before the Pacific Council for discussion, those issues may not be the subject of formal Council action during this meeting. Council action will be restricted to those issues specifically listed in this notice and any issues arising after publication of this notice that require emergency action under Section 305(c) of the Magnuson-Stevens Fishery Conservation and Management Act, provided the public has been notified of the Council's intent to take final action to address the emergency.

Special Accommodations

These meetings are physically accessible to people with disabilities. Requests for sign language interpretation or other auxiliary aids should be directed to Ms. Carolyn Porter at (503) 820-2280 at least 5 days prior to the meeting date.

Dated: August 24, 2009,
Tracey L. Thompson,
Acting Director, Office of Sustainable Fisheries, National Marine Fisheries Service.

[FR Doc. E9-20658 Filed 8-26-09; 8:45 am]

BILLING CODE 3510-22-S